DEPARTMENT OF DEFENSE

GENERAL SERVICES ADMINISTRATION

NATIONAL AERONAUTICS AND SPACE ADMINISTRATION

[OMB Control No. 9000-00XX; Docket 2014-0055; Sequence 6]

Federal Acquisition Regulation; Information Collection; Public Voucher for Purchases and Services Other Than Personal

AGENCY: Department of Defense (DOD), General Services Administration (GSA), and National Aeronautics and Space Administration (NASA).

ACTION: Notice of request for public comments regarding a new OMB information collection.

SUMMARY: Under the provisions of the Paperwork Reduction Act (44 U.S.C. chapter 35), the Regulatory Secretariat Division (MVCB) will be submitting to the Office of Management and Budget (OMB) a request to review and approve a new information collection requirement regarding Public Voucher for Purchases and Services other than Personal.

DATES: Submit comments on or before September 8, 2014.

ADDRESSES: Submit comments identified by Information Collection 9000-00XX, Public Voucher for Purchases and Services other than Personal by any of the following methods:

• Regulations.gov: http://www.regulations.gov. Submit comments via the Federal eRulemaking portal by searching the OMB control number 9000-00XX. Select the link “Comment Now” that corresponds with “Information Collection 9000-00XX, Public Voucher for Purchases and Services other than Personal. Follow the instructions provided on the screen. Please include your name, company name (if any), and “Information Collection 9000-00XX, Public Voucher for Purchases and Services other than Personal, on your attached document.

• Fax: 202-501-4067.

• Mail: General Services Administration, Regulatory Secretariat Division (MVCB), 1800 F Street NW., Washington, DC 20405. ATTN: Ms. Flowers/IC 9000-00XX, Public Voucher for Purchases and Services other than Personal.

Instructions: Please submit comments only and cite Information Collection 9000-00XX, Public Voucher for Purchases and Services other than Personal, in all correspondence related to this collection. All comments received will be posted without change to http://www.regulations.gov, including any personal and/or business confidential information provided.

FOR FURTHER INFORMATION CONTACT: Mr. Curtis E. Glover, Sr., Procurement Analyst, Acquistion Policy Division, via telephone 202-501-1448 or via email curtis.glover@gsa.gov.

SUPPLEMENTARY INFORMATION:

A. Purpose

Standard Form (SF) 1034, Public Voucher for Purchases and Services Other than Personal, is used by the agencies for regular payments to vendors under cost-reimbursement contracts, and for terminations.

Cost type contracts provide for interim payment for costs vouchered on SF 1034. This is applicable to all cost-reimbursement type contracts, including cost-reimbursement portions of fixed price contracts, letter contracts which provide for reimbursement of costs, time and materials contracts and labor-hour contracts. Vouchers may be submitted at the beginning of each billing period for costs incurred during the preceding billing period. Vouchers should not be submitted more than once a month unless such arrangements are made with the Contracting Officer.

Termination clauses for cost-reimbursement contracts (see FAR 49.503(a)) provide for the settlement of costs and fee, if any, in cases of termination by convenience. The contract clauses governing costs shall determine what costs are allowable. When the contract has been completely terminated, the contractor shall not use SF 1034 after the last day of the sixth month following the month in which the termination is effective. The contractor may elect to stop using vouchers at any time during the 6-month period. When the contractor has vouchered out all costs within the 6-month period, a proposal for fee, if any, may be submitted on the SF 1437, Settlement Proposal for Cost-Reimbursement Type Contracts, (see FAR 49.602-1) or by letter appropriately certified. The contractor must submit a substantiated proposal for fee to the Termination Contracting Officer (TCO) within 1 year from the effective date of termination, unless the period is extended by the TCO. When the use of vouchers is discontinued, the contractor shall submit all unvouchered costs and the proposed fee, if any, as specified in FAR 49.303. When the contract is partially terminated, FAR 49.304 shall apply.

In consultation with subject matter experts at the Department of Defense, the number of responses per year was verified as being within an acceptable range, as was the average time required to read and prepare information which was estimated at 1 hour per response.

B. Annual Reporting Burden

Respondents: 75,636.

Responses per Respondent: 12.

Total Responses: 907,632.

Hours per Response: 1.

Total Burden Hours: 907,632.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-00XX, in all correspondence.

Dated: July 2, 2014.
Karlos Morgan,
Acting Director, Office of Government-wide Acquisition Policy, Office of Acquisition Policy, Office of Government-wide Policy.

[FR Doc. 2014-16082 Filed 7-9-14; 8:45 am]

BILLING CODE P